DEPARTMENT OF HOMELAND SECURITY

Federal Emergency Management Agency

44 CFR Chapter I

[Docket ID FEMA-2017-0023]

Evaluation of Existing Regulations, Policies, and Information Collections

AGENCY: Federal Emergency Management Agency, DHS.

ACTION: Request for comment.

SUMMARY: As part of its implementation of Executive Order 13771, “Reducing Regulation and Controlling Regulatory Costs,” issued by the President on January 30, 2017, and Executive Order 13777, “Enforcing the Regulatory Reform Agenda,” issued by the President on February 24, 2017, the Federal Emergency Management Agency (FEMA) is seeking input on regulations, policies, and information collections that may be appropriate for repeal, replacement, or modification.

DATES: Comments must be received by August 14, 2017.

ADDRESSES: Comments must be identified by docket ID FEMA-2017-0023 and may be submitted by one of the following methods:

Federal eRulemaking Portal: http://www.regulations.gov. Follow the instructions for submitting comments.

Mail: Regulatory Affairs Division, Office of Chief Counsel, Federal Emergency Management Agency, 8NE, 500 C Street SW., Washington, DC 20472-3100.

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy and Security Notice” link on the homepage of www.regulations.gov.

Please submit your comments and any supporting material by only one means to avoid the receipt and review of duplicate submissions.

FOR FURTHER INFORMATION CONTACT: Liza Davis, Associate Chief Counsel, Regulatory Affairs, Federal Emergency Management Agency, 500 C Street SW., Washington, DC 20472, 202-646-4046.

SUPPLEMENTARY INFORMATION: On January 30, 2017, the President issued Executive Order 13771, “Reducing Regulation and Controlling Regulatory Costs” (82 FR 9339). That Order stated the policy of the executive branch is to be prudent and financially responsible in the expenditure of funds, from both public and private sources. The Order stated it is essential to manage the costs associated with the governmental imposition of private expenditures required to comply with Federal regulations. Toward that end, for fiscal year 2017, Executive Order 13771 requires:

(1) “Unless prohibited by law, whenever an executive department or agency . . . publicly proposes for notice and comment or otherwise promulgates a new regulation, it shall identify at least two existing regulations to be repealed.” Sec. 2(a).

(2) “For fiscal year 2017, . . . the heads of all agencies are directed that the total incremental cost of all new regulations, including repealed regulations, to be finalized this year shall be no greater than zero, unless otherwise required by law or consistent with advice provided in writing by the Director of the Office of Management and Budget . . . .” Sec. 2(b).

(3) “In furtherance of the requirement of subsection (a) of this section, any new incremental costs associated with new regulations shall, to the extent permitted by law, be offset by the elimination of existing costs associated with at least two prior regulations.” Sec. 2(c).

Further, the Executive Order requires that for fiscal year 2018, and for each fiscal year thereafter, the head of each agency shall identify, for each regulation that increases incremental cost, offsetting regulations, and provide the agency's best approximation of the total costs or savings associated with each new regulation or repealed regulation. During the Presidential budget process beginning in fiscal year 2018 and for each year thereafter, the Director of the Office of Management and Budget (Director) will identify to each agency a total amount of incremental costs that will be allowed for such agency in issuing new regulations and repealing regulations for the next fiscal year. No regulations exceeding the agency's total incremental cost allowance will be permitted in that fiscal year, unless required by law or approved in writing by the Director. The total incremental cost allowance may allow an increase or require a reduction in total regulatory cost.

Additionally, on February 24, 2017, the President issued Executive Order 13777, “Enforcing the Regulatory Reform Agenda” (82 FR 12285). The Order established a Federal policy to alleviate unnecessary regulatory burdens placed on the American people. Section 3(a) of the Executive Order directs Federal agencies to establish a Regulatory Reform Task Force (Task Force). One of the duties of the Task Force is to evaluate existing regulations and make recommendations to the agency head regarding their repeal, replacement, or modification. The Executive Order further asks that each Task Force attempt to identify regulations that:

(i) Eliminate jobs, or inhibit job creation;

(ii) Are outdated, unnecessary, or ineffective;

(iii) Impose costs that exceed benefits;

(iv) Create a serious inconsistency or otherwise interfere with regulatory reform initiatives and policies;

(v) Are inconsistent with the requirements of section 515 of the Treasury and General Government Appropriations Act, 2001 (44 U.S.C. 3516 note), or the guidance issued pursuant to that provision in particular those regulations that rely in whole or in part on data, information, or methods that are not publicly available or that are insufficiently transparent to meet the standard of reproducibility; or

(vi) Derive from or implement Executive Orders or other Presidential directives that have been subsequently rescinded or substantially modified.

The Office of Management and Budget has directed that agency policies (such as guidance and interpretative documents) and information collections that impose costs on the public may also be identified under the above criteria, in addition to regulations.

Section 3(e) of the Executive Order calls on the Task Force to seek input and other assistance on this task, as permitted by law, from entities significantly affected by Federal regulations, including State, local, and Tribal governments, small businesses, consumers, non-governmental organizations, and trade associations.

Finally, on March 28, 2017, the President signed Executive Order 13783, “Promoting Energy Independence and Economic Growth” (82 FR 16093). Among other things, Executive Order 13783 requires the heads of agencies to review all existing regulations, orders, guidance documents, policies, and any other similar agency actions (collectively, agency actions) that potentially burden the development or use of domestically produced energy resources, with particular attention to oil, natural gas, coal, and nuclear energy resources. Such review does not include agency actions that are mandated by law, necessary for the public interest, and consistent with the policy set forth elsewhere in that order.

Executive Order 13783 defined “burden” for purposes of the review of existing regulations to mean to unnecessarily obstruct, delay, curtail, or otherwise impose significant costs on the siting, permitting, production, utilization, transmission, or delivery of energy resources.

Through this notice, FEMA is soliciting such input from the public to inform the Task Force's evaluation of existing regulations, policies, and information collections pursuant to these three Executive Orders. FEMA requests that commenters be as specific as possible with how, for example, a particular regulation, policy or information collection imposes costs that exceed benefits or is otherwise unnecessary or ineffective. Commenters should include any supporting data or other information such as cost information, provide a Federal Register or Code of Federal Regulations citation when referencing a specific regulation, and provide specific suggestions regarding repeal, replacement, or modification.

Although FEMA will not respond to individual comments, FEMA values public feedback and will give careful consideration to all input that it receives.

Authority: Executive Order 13771; Executive Order 13777; Executive Order 13783.

Dated: June 8, 2017.
Robert Fenton,
Senior Official Performing the Duties of the Administrator, Federal Emergency Management Agency.

[FR Doc. 2017-12366 Filed 6-14-17; 8:45 am]

BILLING CODE 9111-19-P